ELECTION ASSISTANCE COMMISSION

Sunshine Act Notice

Agency: United States Election Assistance Commission.

* * * * *

Action: Notice of Public Meeting Agenda.

Date & Time: Thursday, April 20, 2006, 10 a.m.-12 noon.

Place: Seattle Hilton, 1301 6th Avenue and University Street, Seattle, WA 98101-2304. (206) 624-0500.

Agenda: The Commission will receive presentations on the following topic: “Vote Counting and Recounting”. The Commission will hear from election officials and election researchers on experiences with recounting and procedures for counting votes. The Commission will receive updates on other administrative matters.

This Meeting Will be Open to the Public

* * * * *

Person to Contact for Information: Bryan Whitener, Telephone: (202) 566-3100.

* * * * *

Thomas R. Wilkey,
Executive Director, U.S. Election Assistance Commission.

[FR Doc. 06-3362 Filed 4-4-06; 2:02 pm]

BILLING CODE 6820-KF-M